DEPARTMENT OF THE INTERIOR

Minerals Management Service

Notice and Agenda for Meeting of the Royalty Policy Committee

AGENCY: Minerals Management Service (MMS), Interior.

ACTION: Notice of meeting.

SUMMARY: This notice announces the September 18, 2008, meeting of the Royalty Policy Committee (RPC). Agenda items for the meeting of the RPC will include remarks from the Director, MMS, and the Associate Director, Minerals Revenue Management (MRM); a status report on the Department of Interior's implementation of recommendations from the RPC Subcommittee on Royalty Management; and a presentation on the Royalty in Kind (RIK) Fiscal Year 2007 Annual Report. The agenda also includes a briefing on a recent Office of Inspector General Evaluation of the RIK oil sales process; an update on the MRM Compliance Program; status reports on the rulemakings for Indian Oil Valuation and Advanced Royalty for Coal; and updates from the Oil and Gas Valuation, Oil and Gas Royalty Reporting, and RIK Subcommittees. The RPC membership includes representation from states, Indian Tribes, various mineral interests, the public-at-large (with knowledge and interest in royalty issues), and other Federal departments.

DATES: Thursday, September 18, 2008, from 8:30 a.m. to 4:30 p.m., Mountain Standard Time.

ADDRESSES: The meeting will be held at the Sheraton Denver West Hotel, 360 Union Boulevard, Lakewood, Colorado, telephone number 303-987-2000 or 1-800-325-3535.

FOR FURTHER INFORMATION CONTACT: Gina Dan, Minerals Revenue Management, Minerals Management Service; PO Box 25165, MS 300B2, Denver, Colorado 80225-0165; telephone number (303) 231-3392, fax number (303) 231-3780; e-mail gina.dan@mms.gov.

SUPPLEMENTARY INFORMATION: The RPC provides advice to the Secretary and top Department officials on minerals policy, operational issues, and the performance of discretionary functions under the laws governing the Department's management of Federal and Indian mineral leases and revenues. The RPC reviews and comments on revenue management and other mineral-related policies and provides a forum to convey views representative of mineral lessees, operators, revenue payors, revenue recipients, governmental agencies, and the interested public. The location and dates of future meetings will be published in the Federal Register and posted on our Internet site at http://www.mms.gov/mmab/RoyaltyPolicyCommittee/rpc_homepage.htm.

Meetings are open to the public without advanced registration on a space-available basis. The public may make statements during the meetings, to the extent time permits, and file written statements with the RPC for its consideration. Please submit copies of these written statements to Ms. Dan by September 9, 2008. Transcripts of this meeting will be available for public inspection and copying at our offices in Building 85 on the Denver Federal Center in Lakewood, Colorado. The MMS will post the minutes on our Internet site.

These meetings are conducted under the authority of the Federal Advisory Committee Act (Pub. L. 92-463, 5 U.S.C., Appendix 1) and the Office of Management and Budget (Circular No. A-63, revised).

Dated: August 20, 2008.
Richard J. Adamski,
Acting Associate Director, Minerals Revenue Management.

[FR Doc. E8-19649 Filed 8-22-08; 8:45 am]

BILLING CODE 4310-MR-P